DEPARTMENT OF THE INTERIOR

National Park Service

[NPS-WASO-NAGPRA-13012; PPWOCRADN0-PCU00RP14.R50000]

Notice of Inventory Completion: U.S. Department of Agriculture, U.S. Forest Service, San Juan National Forest, Durango, CO

AGENCY: National Park Service, Interior.

ACTION: Notice.

SUMMARY: The U.S. Department of Agriculture (USDA), Forest Service, San Juan National Forest has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to San Juan National Forest. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the San Juan National Forest at the address in this notice by July 8, 2013.

ADDRESSES: Julie Coleman, Heritage Program Manager, San Juan National Forest, 15 Burnett Court, Durango, CO 81301, telephone (970) 385-1250, email jacoleman@fs.fed.us.

SUPPLEMENTARY INFORMATION: Notice is here given in accordance with the Native American Graves Protection and Repatriation Act (NAGPRA), 25 U.S.C. 3003, of the completion of an inventory of human remains under the control of the USDA Forest Service, San Juan National Forest, Durango, CO. The human remains were removed from lands managed by the USDA Forest Service in La Plata County, CO.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the USDA Forest Service and the National Park Service professional staff, along with a team of research consultants, in consultation with representatives of the Hopi Tribe of Arizona; Jicarilla Apache Nation, New Mexico; Kewa Pueblo, New Mexico (previously listed as the Pueblo of Santo Domingo); Navajo Nation, Arizona, New Mexico & Utah; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Southern Ute Indian Tribe of the Southern Ute Reservation, Colorado; Ute Indian Tribe of the Uintah & Ouray Reservation, Utah; Ute Mountain Tribe of the Ute Mountain Reservation, Colorado, New Mexico & Utah; Ysleta del Sur Pueblo of Texas; and the Zuni Tribe of the Zuni Reservation, New Mexico.

History and description of the remains

Prior to 1962, human remains representing, at minimum, three individuals were removed from an unknown site or sites in the Falls Creek cave area, north of Durango, in LaPlata County, CO. The human remains were included with collection materials from the Falls Creek Rock Shelters (site 5LP1434) and in the custody of the Mesa Verde National Park. In 2009, Mesa Verde National Park transferred these remains to the San Juan National Forest. Detailed assessment of the accompanying documentation and analysis of the human remains determined that these remains are not part of the collections from the Falls Creek Rock Shelters and that they were donated to Mesa Verde National Park in 1962 from the Durango Public Library in Durango, CO. Provenience information is designated as the “Falls Creek Cave Area.” The remains include a complete skull of a young adult male, 20-34 years of age; a skull of an adult male, 35-49 years of age; and a skull of an adult male, 35-49 years of age. All three of the skulls exhibit some reconstruction and remnants of modifications made for purposes of display. No known individuals were identified. No associated funerary objects are present.

Analysis of the human remains by Mesa Verde National Park staff concluded that they were Ancestral Puebloan dating to the “Basketmaker” period. A subsequent review and reassessment of all available documentation and the human remains concurs with the Mesa Verde National Park analysis conclusion of an Ancestral Puebloan cultural affiliation, likely dating from between the Basketmaker III and Pueblo I time periods (A.D. 500-A.D. 900), which is consistent with prehistoric settlement and occupation of this geographic area.

Determinations made by the USDA Forest Service, San Juan National Forest

Officials of the San Juan National Forest have determined that:

• Pursuant to 25 U.S.C. 3001(9), the human remains described in this notice represent the physical remains of three individuals of Native American ancestry.

• Pursuant to 25 U.S.C. 3001(2), there is a relationship of shared group identity that can be reasonably traced between the Native American human remains to the Hopi Tribe of Arizona; Kewa Pueblo, New Mexico (previously listed as the Pueblo of Santo Domingo); Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta del Sur Pueblo of Texas; and the Zuni Tribe of the Zuni Reservation, New Mexico (hereafter referred to as “The Tribes”).

Additional Requestors and Disposition

Lineal descendants or representatives of any Indian tribe or Native Hawaiian organization not identified in this notice that wish to request transfer of control of these human remains should submit a written request with information in support of the request to Julie Coleman, Heritage Program Manager, San Juan National Forest, 15 Burnett Court, Durango, CO 81301, telephone (970) 385-1250, email jacoleman@fs.fed.us, by July 8, 2013. After that date, if no additional requestors have come forward, transfer of control of the human remains to The Tribes may proceed.

The San Juan National Forest is responsible for notifying of the Hopi Tribe of Arizona; Jicarilla Apache Nation, New Mexico; Kewa Pueblo, New Mexico (previously listed as the Pueblo of Santo Domingo); Navajo Nation, Arizona, New Mexico & Utah; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Southern Ute Indian Tribe of the Southern Ute Reservation, Colorado; Ute Indian Tribe of the Uintah & Ouray Reservation, Utah; Ute Mountain Tribe of the Ute Mountain Reservation, Colorado, New Mexico & Utah; Ysleta del Sur Pueblo of Texas; and the Zuni Tribe of the Zuni Reservation, New Mexico, that this notice has been published.

Dated: May 6, 2013.
Sherry Hutt,
Manager, National NAGPRA Program.

[FR Doc. 2013-13462 Filed 6-5-13; 8:45 am]

BILLING CODE 4312-50-P